DEPARTMENT OF THE TREASURY

Internal Revenue Service

26 CFR Part 1

[TD 9186]

RIN 1545-BD42

Qualified Amended Returns; Correction

AGENCY: Internal Revenue Service (IRS), Treasury.

ACTION: Correcting amendment.

SUMMARY: This document contains corrections to temporary regulations (TD 9186) which were published in the Federal Register on Wednesday, March 2, 2005 (70 FR 10037). The temporary regulations modify the rules relating to qualified amended returns by providing additional circumstances that end the period within which a taxpayer may file an amended return that constitutes a qualified amended return.

DATES: This correction is effective March 2, 2005.

FOR FURTHER INFORMATION CONTACT: Nancy M. Galib at (202) 622-4940 (not a toll-free number).

SUPPLEMENTARY INFORMATION:

Background

The temporary regulations (TD 9186) that are the subject of these corrections are under section 6227 of the Internal Revenue Code.

Need for Correction

As published, TD 9186 contains errors that may prove to be misleading and are in need of clarification.

List of Subjects in 26 CFR Part 1

Income taxes, Reporting and recordkeeping requirements.

Correction of Publication

Accordingly, 26 CFR Part 1 is corrected by making the following correcting amendments:

PART 1—INCOME TAXES

Paragraph 1. The authority citation for part 1 continues to read in part as follows:

Authority: 26 U.S.C. 7805 * * *

§ 1.6664-2T [Corrected]

1. Section 1.6664-2T(c)(3)(i)(B) is amended by removing “of an activity” and adding “for an activity” in its place.

2. Section 1.6664-2T(c)(3)(ii)(A) is amended by removing “§ 1.6664-2(c)(3)(i)” and adding “§ 1.6664-2T(c)(3)(i)” in its place.

3. Section 1.6664-2T(c)(3)(ii)(C) is amended by removing “who is a material advisor (within the meaning of section 6111)” and adding “from any person who gave the taxpayer material aid, assistance, or advice as described in section 6111(b)(1)(A)(i)” in its place.

4. Section § 1.6664-2T(c)(5) Example 3., is redesignated as § 1.6664-2T(c)(5) Example 3 (i).

5. Newly designated § 1.6664-2T(c)(5) Example 3. (i) is amended by removing “2003” and adding “2004” each place it appears.

6. The undesignated text in § 1.6664-2T(c)(5) Example 3. is designated as § 1.6664-2T(c)(5) Example 3. (ii).

7. Section 1.6664-2T(c)(5) Example 4., the first sentence is amended by removing “2003” and adding “2004” in its place.

8. Section 1.6664-2T(c)(5) Example 7., is redesignated as § 1.6664-2T(c)(5) Example 7. (i).

9. The undesignated text in § 1.6664-2T(c)(5) Example 7. is designated as § 1.6664-2T(c)(5) Example 7. (ii).

Cynthia E. Grigsby,
Acting Chief, Publications and Regulations Branch, Legal Processing Division, Associate Chief Counsel, (Procedure and Administration).

[FR Doc. 05-12385 Filed 6-22-05; 8:45 am]

BILLING CODE 4830-01-P